DEPARTMENT OF ENERGY

Federal Energy Regulatory Commission

[Project No. 400-033—Colorado]

Public Service Company of Colorado; Notice of Availability of Environmental Assessment

March 27, 2002.

In accordance with the National Environmental Policy Act of 1969 and the Federal Energy Regulatory Commission's (Commission) regulations, 18 CFR part 380 (Order No. 486, 52 FR 47897), the Office of Energy Projects has reviewed a proposed recreation and land management plan for the Tacoma Development of the Tacoma-Ames Project and has prepared an Environmental Assessment (EA). The Tacoma Development primarily consists of Electra Lake and the surrounding lands and is located on the Animas River, near the town of Durango, in La Plata and San Juan Counties, Colorado. Lands within the San Juan and Uncompahgre National Forests and under the jurisdiction of the Bureau of Land Management are located with the project boundary. No Indian Tribal lands are located within the project boundary.

The proposed plan establishes the Public Service Company of Colorado's (project licensee) future management practices and guidelines for public recreation and private development at Electra Lake and the adjoining project lands. The proposed plan is intended to ensure that recreation use and private development at Electra Lake is consistent with hydroelectric operations, the terms and conditions of the project license, including the project's existing recreation plan; an existing lease agreement between the licensee and the Electra Sporting Club, a private recreation club; and all other applicable Federal, state, and local laws and regulations. The proposed plan contains provisions addressing existing and future private development, public recreation use and opportunities, and the preservation of natural resources, including scenic and environmental values, at Electra Lake and the adjoining project lands. The EA contains Commission staff's analysis of the potential environmental impacts of implementation of the proposed plan and concludes that the proposed action would not constitute a major Federal action significantly affecting the quality of the human environment.

A copy of the EA is on file with the Commission and is available for public inspection. The EA may also be viewed on the web at http://www.ferc.gov using the “RIMS” link—select “P-400” and follow the instructions (call 202-208-2222 for assistance).

Linwood A. Watson, Jr.,
Deputy Secretary.

[FR Doc. 02-7893 Filed 3-29-02; 8:45 am]

BILLING CODE 6717-01-P